ARCHITECTURAL AND TRANSPORTATION BARRIERS COMPLIANCE BOARD

36 CFR Part 1192

[Docket No. ATBCB-2020-0002]

RIN 3014-AA42

Americans With Disabilities Act Accessibility Guidelines for Transportation Vehicles; Rail Vehicles; Extension of Comment Period

AGENCY: Architectural and Transportation Barriers Compliance Board.

ACTION: Advance notice of proposed rulemaking; extension of comment period.

SUMMARY: The Architectural and Transportation Barriers Compliance Board (Access Board) is extending until July 14, 2020 the comment period for the document entitled “Americans with Disabilities Act Accessibility Guidelines for Transportation Vehicles; Rail Vehicles” that appeared in the Federal Register on February 14, 2020. In that document, the Access Board requested comments by May 14, 2020. The Access Board is taking this action to allow interested persons additional time to submit comments.

DATES: The comment period for the advance notice of proposed rulemaking published February 14, 2020, at 85 FR 8516, is extended. Comments should be received on or before July 14, 2020.

ADDRESSES: Submit comments by any of the following methods:

• Federal eRulemaking Portal: http://www.regulations.gov. Follow the instructions for submitting comments.

• Email: docket@access-board.gov. Include docket number ATBCB-2020-0002 in the subject line of the message.

• Fax: 202-272-0081.

• Mail or Hand Delivery/Courier: Office of Technical and Information Services, U.S. Access Board, 1331 F Street NW, Suite 1000, Washington, DC 20004-1111.

All comments received, including any personal information provided, will be posted without change to http://www.regulations.gov.

FOR FURTHER INFORMATION CONTACT: Technical information: Juliet Shoultz, (202) 272-0045, Email: shoultz@access-board.gov. Legal information: Wendy Marshall, (202) 272-0043, marshall@access-board.gov.

SUPPLEMENTARY INFORMATION: On February 14, 2020, the Architectural and Transportation Barriers Compliance Board (Access Board) issued an advance notice of proposed rulemaking to begin the process of updating its existing accessibility guidelines for rail vehicles covered by the Americans with Disabilities Act. See 85 FR 8516, February 14, 2020. In that document, the Access Board requested comments by May 14, 2020.

On March 26, 2020, the American Public Transit Association (APTA) requested that the 90-day comment period be extended for an additional 60 days to allow for a more thorough, careful review of the 25 technical questions posed by the Board. APTA continued that “given the pandemic and national emergency declarations, our members who are concerned about this issue have been pulled away to work on essential functions. Thus, the additional time would allow APTA members to collaborate and develop thoughtful responses to the Access Board's questions.”

Although the Access Board has already provided a 90-day comment period and held a public hearing on the ANPRM, the Board will provide additional time for the public to submit comments.

David M. Capozzi,
Executive Director.

[FR Doc. 2020-07292 Filed 4-9-20; 8:45 am]

BILLING CODE 8150-01-P